OFFICE OF PERSONNEL MANAGEMENT

Excepted Service

AGENCY: Office of Personnel Management.

ACTION: Notice.

SUMMARY: This notice identifies Schedule A, B, and C appointing authorities applicable to a single agency that were established or revoked from August 1, 2018 to August 31, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2018.

Schedule B

No Schedule B Authorities to report during August 2018.

Schedule C

The following Schedule C appointing authorities were approved during August 2018.

Agency name | Organization name | Position title | Authorization No. | Effective date
DEPARTMENT OF AGRICULTURE | Office of Food and Nutrition Service | Director of Intergovernmental Affairs | DA180214 | 08/20/2018
| Office of Foreign Agricultural Service | Senior Policy Advisor | DA180190 | 08/09/2018
| Office of Natural Resources Conservation Service | Confidential Assistant | DA180206 | 08/17/2018
| Office of Communications | Press Assistant | DA180227 | 08/20/2018
| Office of the Assistant to the Secretary for Rural Development | Confidential Assistant (2) | DA180224 DA180223 | 08/02/2018 8/9/2018
| Office of the Secretary | Advance Lead | DA180219 | 08/13/2018
|  | Confidential Assistant | DA180254 | 08/27/2018
| Office of the Under Secretary for Research, Education, and Economics | Confidential Assistant | DA180207 | 08/02/2018
| Office of Rural Housing Service | Confidential Assistant | DA180209 | 08/02/2018
|  | Staff Assistant | DA180220 | 08/23/2018
DEPARTMENT OF COMMERCE | Office of Under Secretary | Special Assistant | DC180168 | 08/02/2018
| Office of Public Affairs | Special Advisor for Communications | DC180169 | 08/02/2018
| Office of Legislative and Intergovernmental Affairs | Director of Legislative Affairs | DC180186 | 08/16/2018
| Office of Bureau of Industry and Security | Senior Counselor | DC180182 | 08/20/2018
| Office of Scheduling and Advance | Advance Assistant | DC180180 | 08/23/2018
| Office of Assistant Secretary Legislative and Intergovernmental Affairs | Associate Director for Legislative Affairs | DC180188 | 08/29/2018
| Office of Business Liaison | Special Advisor | DC180183 | 08/31/2018
| Office of Executive Secretariat | Deputy Director, Office of Executive Secretariat | DC180190 | 08/31/2018
CONSUMER PRODUCT SAFETY COMMISSION | Office of Commissioners | Director, Office of Legislative Affairs | PS180005 | 08/29/2018
|  | Supervisory Public Affairs Specialist | PS180008 | 08/29/2018
DEPARTMENT OF DEFENSE | Office of the Under Secretary of Defense (Intelligence) | Special Assistant for Intelligence | DD180121 | 08/30/2018
DEPARTMENT OF EDUCATION | Office of the Under Secretary | Senior Advisor | DB180057 | 08/02/2018
| Office of Planning, Evaluation and Policy Development | Special Assistant (2) | DB180058 DB180060 | 08/09/2018 08/09/2018
| Office of Legislation and Congressional Affairs | Special Assistant | DB180062 | 08/28/2018
|  | Special Assistant (Supervisory) | DB180063 | 08/30/2018
DEPARTMENT OF ENERGY | Office of the Assistant Secretary for International Affairs | Special Advisor Senior Advisor | DE180133 DE180134 | 08/02/2018 08/09/2018
| Office of the Under Secretary | Senior Advisor | DE180145 | 08/02/2018
| Office of Scheduling and Advance | Scheduling Coordinator | DE180127 | 08/13/2018
| Office of Technology Transition | Director and Chief Commercialization Officer | DE180150 | 08/13/2018
| Office of General Counsel | Attorney Advisor | DE180135 | 08/17/2018
| Office of the Secretary | Special Assistant | DE180143 | 08/23/2018
| Office of the Chief Financial Officer | Chief of Staff | DE180154 | 08/28/2018
| Office of the Assistant Secretary for Electricity Delivery and Energy Reliability | Special Assistant | DE180137 | 08/29/2018
ENVIRONMENTAL PROTECTION AGENCY | Office of Advance Staff Office of the Assistant Administrator for Chemical Safety and Pollution Prevention | Director of Advance Environmental Engineer | EP180081 EP180090 | 08/09/2018 08/23/2018
| Office of the Assistant Administrator for International and Tribal Affairs | Senior Advisor for the Office of International and Tribal Affairs | EP180091 | 08/30/2018
| Office of the Executive Secretariat | Special Advisor (2) | EP180089 | 08/23/2018
|  |  | EP180088 | 08/28/2018
DEPARTMENT OF HEALTH AND HUMAN SERVICES | Office of the Secretary | Advisor Special Assistant | DH180194 DH180223 | 08/02/2018 08/07/2018
|  |  | DH180222 | 08/09/2018
| Office of the Assistant Secretary for Health | Advisor Senior Advisor for Communications | DH180210 DH180238 | 08/16/2018 08/30/2018
DEPARTMENT OF HOMELAND SECURITY | Office of Assistant Secretary for Legislative Affairs | Director for Strategic Legislative Communications and Engagement | DM180262 | 08/17/2018
| Office of the Chief of Staff | Briefing Book Coordinator | DM180238 | 08/22/2018
| Office of the Under Secretary for National Protection and Programs Directorate | Policy Advisor | DM180280 | 08/23/2018
DEPARTMENT OF HOUSING AND URBAN DEVELOPMENT | Office of the Deputy Secretary | Special Assistant (2) | DU180091 DU180097 | 08/02/2018 08/17/2018
| Office of the Administration | Special Assistant (2) | DU180090 DU180103 | 08/09/2018 08/30/2018
|  | Scheduling and Advance Coordinator | DU180102 | 08/23/2018
| Office of Public Affairs | Deputy Assistant Secretary for Public Affairs | DU180094 | 08/20/2018
DEPARTMENT OF JUSTICE | Office of Legislative Affairs | Intergovernmental Liaison Specialist | DJ180113 | 08/02/2018
| Office of Civil Rights Division | Counsel | DJ180108 | 08/17/2018
DEPARTMENT OF LABOR | Office of the Assistant Secretary for Policy | Chief of Staff and Senior Counsel Counsel and Policy Advisor | DL180120 DL180126 | 08/02/2018 08/30/2018
| Office of Public Liaison | Senior Advisor | DL180115 | 08/09/2018
|  | Special Assistant | DL180123 | 08/23/2018
| Office of the Solicitor | Counsel | DL180122 | 08/28/2018
NATIONAL AERONAUTICS AND SPACE ADMINISTRATION | Office of Communications | Deputy Press Secretary | NN180042 | 08/27/2018
OFFICE OF MANAGEMENT AND BUDGET | Office of Information and Regulatory Affairs | Confidential Assistant | BO180034 | 08/09/2018
| Office of the Director | Confidential Assistant | BO180036 | 08/09/2018
|  | Special Assistant | BO180035 | 08/22/2018
|  | Deputy Chief of Staff and Associate Director for Intergovernmental Affairs | BO180037 | 08/23/2018
OFFICE OF NATIONAL DRUG CONTROL POLICY | Office of the Director | Policy Assistant | QQ180007 | 08/07/2018
OFFICE OF PERSONNEL MANAGEMENT | Office of Communications | Deputy Director, Office of Communications | PM180051 | 08/17/2018
|  | Speech Writer | PM180061 | 08/17/2018
|  | Press Officer | PM180063 | 08/28/2018
| Office of the Director | Strategic Analyst | PM180049 | 08/09/2018
|  | Confidential Assistant | PM180052 | 08/30/2018
OFFICE OF THE UNITED STATES TRADE REPRESENTATIVE | Office of the Ambassador | Executive Secretary and Policy Coordinator | TN180002 | 08/07/2018
PRESIDENT'S COMMISSION ON WHITE HOUSE FELLOWSHIPS | Office of the President's Commission on White House Fellowships | Principal Deputy Director | WH180005 | 08/16/2018
SMALL BUSINESS ADMINISTRATION | Office of Congressional and Legislative Affairs | Deputy Assistant Administrator Senior Advisor | SB180043 SB180036 | 08/07/2018 08/23/2018
|  | Legislative Assistant | SB180044 | 08/23/2018
| Office of the Administrator | Scheduler | SB180041 | 08/09/2018
| Office of Investment and Innovation | Senior Advisor | SB180037 | 08/23/2018
| Office of Entrepreneurial Development | Special Advisor for Entrepreneurial Development | SB180045 | 08/29/2018
| Office of Native American Affairs | Assistant Administrator for Native American Affairs | SB180042 | 08/30/2018
DEPARTMENT OF STATE | Office of the Counselor | Senior Advisor | DS180063 | 08/02/2018
|  | Staff Assistant | DS180074 | 08/23/2018
|  | Special Assistant | DS180076 | 08/23/2018
| Office of Bureau of Political and Military Affairs | Special Assistant | DS180065 | 08/02/2018
| Office of Bureau of European and Eurasian Affairs | Special Assistant | DS180067 | 08/02/2018
| Office of Bureau of Legislative Affairs | Special Assistant Special Assistant | DS180064 DS180070 | 08/08/2018 08/08/2018
| Office of Policy Planning | Writer—Editor (Speechwriter) | DS180072 | 08/09/2018
| Office of Bureau of Education and Cultural Affairs | Deputy Assistant Secretary Special Assistant | DS180073 DS180071 | 08/16/2018 08/17/2018
| Office of the Under Secretary for Arms Control and International Security Affairs | Senior Advisor | DS180079 | 08/28/2018
| Office of the Under Secretary for Management | Staff Assistant Deputy White House Liaison | DS180075 DS180081 | 08/23/2018 08/30/2018
DEPARTMENT OF TRANSPORTATION | Office of the Secretary | Deputy Director for Scheduling and Advance | DT180074 | 08/02/2018
| Office of the Executive Secretariat | Deputy Director | DT180070 | 08/15/2018
| Office of Public Affairs | Speechwriter | DT180031 | 08/20/2018
|  | Deputy Press Secretary | DT180071 | 08/23/2018
| Office of the Deputy Secretary | Special Assistant for Scheduling and Advance | DT180078 | 08/23/2018
DEPARTMENT OF THE TREASURY | Office of Assistant Secretary (Legislative Affairs) | Special Assistant for Legislative Affairs | DY180105 | 08/23/2018
| Office of Under Secretary for International Affairs | Special Assistant for International Affairs | DY180107 | 08/28/2018
| Secretary of the Treasury | Special Assistant | DY180111 | 08/30/2018
DEPARTMENT OF VETERANS AFFAIRS | Office of the Secretary and Deputy | Senior Advisor for Strategic Communications | DV180050 | 08/24/2018
| Office of Intergovernmental Affairs | Director State and Local Government Relations | DV180059 | 08/24/2018

The following Schedule C appointing authorities were revoked during August 2018.

Agency name | Organization name | Position title | Request No. | Date vacated
DEPARTMENT OF AGRICULTURE | Office of the Secretary | Staff Assistant | DA170193 | 08/18/2018
| Office of the Assistant to the Secretary for Rural Development | Confidential Assistant | DA180176 | 08/18/2018
DEPARTMENT OF COMMERCE | Office of Director General of the United States and Foreign Commercial Service and Assistant Secretary for Global Markets | Director of Outreach | DC170100 | 08/04/2018
| Office of the Chief of Staff | Advance Assistant | DC170081 | 08/18/2018
OFFICE OF THE SECRETARY OF DEFENSE | Office of the Assistant Secretary of Defense (International Security Affairs) | Special Assistant to the Deputy Assistant Secretary of Defense (Middle East Policy) | DD170134 | 08/17/2018
DEPARTMENT OF EDUCATION | Office of Legislation and Congressional Affairs | Confidential Assistant | DB170096 | 08/03/2018
DEPARTMENT OF ENERGY | Office of the Assistant Secretary for Congressional and Intergovernmental Affairs | External Affairs Specialist | DE180102 | 08/04/2018
| Office of the Chief Information Officer | Special Assistant | DE170201 | 08/04/2018
| Office of the Secretary | Deputy White House Liaison | DE170130 | 08/04/2018
| Office of the Deputy Secretary | Special Advisor (2) | DE170179 DE170196 | 08/18/2018 08/18/2018
DEPARTMENT OF HEALTH AND HUMAN SERVICES | Office of the Assistant Secretary for Health | Deputy Chief of Staff | DH180051 | 08/04/2018
| Office of the Secretary | Director of Scheduling and Advance | DH170294 | 08/04/2018
| Office of the Assistant Secretary for Public Affairs | Deputy Director of Communications | DH180016 | 08/10/2018
|  | Assistant Speechwriter | DH180078 | 08/20/2018
DEPARTMENT OF HOMELAND SECURITY | Office of the Assistant for Policy Office of Partnership and Engagement | Policy Analyst Senior Business Liaison | DM170206 DM170137 | 08/10/2018 08/18/2018
| Office of the Chief of Staff | Confidential Assistant | DM170264 | 08/31/2018
DEPARTMENT OF HOUSING AND URBAN DEVELOPMENT | Office of Community Planning and Development | Senior Advisor | DU170128 | 08/04/2018
| Office of the Secretary | Executive Assistant | DU170127 | 08/04/2018
|  | Confidential Assistant | DU180024 | 08/18/2018
|  | Deputy White House Liaison | DU180023 | 08/18/2018
DEPARTMENT OF JUSTICE | Office of the Attorney General | Confidential Assistant | DJ180028 | 08/04/2018
DEPARTMENT OF THE TREASURY | Office of the Assistant Secretary (Public Affairs) | Press Assistant | DY170115 | 08/19/2018
DEPARTMENT OF TRANSPORTATION | Office of the Executive Secretariat | Special Assistant to the Executive Secretariat | DT170057 | 08/18/2018
EXPORT-IMPORT BANK | Office of the Chairman | Advisor to the Chief Banking Officer | EB170005 | 08/10/2018
OFFICE OF MANAGEMENT AND BUDGET | Office of General Government Programs | Confidential Assistant | BO180013 | 08/04/2018
OFFICE OF PERSONNEL MANAGEMENT | Office of the Director | Special Assistant to the Deputy Director | PM180017 | 08/18/2018
PRESIDENT'S COMMISSION ON WHITE HOUSE FELLOWSHIPS | Office of President's Commission on White House Fellowships | Associate Director | WH170010 | 08/18/2018
SMALL BUSINESS ADMINISTRATION | Office of Administration Office of Investment and Innovation | White House Liaison Special Assistant | SB180023 SB170043 | 08/03/2018 08/06/2018
| Office of Entrepreneurial Development | Senior Advisor Special Advisor | SB170020 SB170041 | 08/04/2018 08/07/2018

Authority: 5 U.S.C. 3301 and 3302; E.O. 10577, 3 CFR, 1954-1958 Comp., p. 218.

Office of Personnel Management.
Alexys Stanley,
Regulatory Affairs Analyst.

[FR Doc. 2019-04550 Filed 3-12-19; 8:45 am]

BILLING CODE 6325-39-P